DEPARTMENT OF ENERGY

Federal Energy Regulatory Commission

Combined Notice of Filings #2

Take notice that the Commission received the following electric rate filings:

Docket Numbers: ER10-1585-016; ER10-1594-016; ER10-1617-016; ER10-1626-012; ER10-1628-016; ER10-1632-018; ER10-2480-011; ER12-60-018; ER16-1148-007; ER16-733-007; ER18-1960-003.

Applicants: Alabama Electric Marketing, LLC, Berkshire Power Company, LLC, California Electric Marketing, LLC, LQA, LLC, New Mexico Electric Marketing, LLC, Tenaska Energía de Mexico, S. de R. L. de C.V., Tenaska Pennsylvania Partners, LLC, Tenaska Power Management, LLC, Tenaska Power Services Co., Tenaska Virginia Partners, L.P., Texas Electric Marketing, LLC

Description: Updated Market Power Analysis of the Tenaska Northeast MBR Sellers.

Filed Date: 6/30/20.

Accession Number: 20200630-5491.

Comments Due: 5 p.m. ET 8/29/20.

Docket Numbers: ER10-1915-011; ER10-1963-011; ER10-3274-003; ER10-3275-003; ER10-3278-003; ER18-213-002; ER19-2557-002.

Applicants: Bayswater Peaking Facility, LLC, Capitol District Energy Center Cogeneration Associates, Forked River Power LLC, Jamaica Bay Peaking Facility, LLC, Missisquoi, LLC, Pawtucket Power Associates Limited Partnership, Pittsfield Generating Company, L.P.

Description: Updated Market Power Analysis for the Northeast Region of Bayswater Peaking Facility, LLC.

Filed Date: 6/30/20.

Accession Number: 20200630-5492.

Comments Due: 5 p.m. ET 8/29/20.

Docket Numbers: ER10-2437-015.

Applicants: Arizona Public Service Company.

Description: Notice of Change in Status of Arizona Public Service Company.

Filed Date: 6/30/20.

Accession Number: 20200630-5496.

Comments Due: 5 p.m. ET 7/21/20.

Docket Numbers: ER10-2906-014; ER10-2908-014; ER11-3460-012; ER11-4393-008; ER11-4669-007; ER11-4670-007; ER12-1301-010; ER12-709-006; ER14-477-002; ER19-1716-002.

Applicants: Morgan Stanley Capital Group Inc., MS Solar Solutions Corp., Morgan Stanley Energy Structuring, L.L.C., TAQA Gen X LLC, Red Oak Power, LLC, Bayonne Energy Center, LLC, Zone J Tolling Co., LLC, NaturEner Montana Wind Energy, LLC, NaturEner Power Watch, LLC, NaturEner Wind Watch, LLC.

Description: Updated Market Power Analysis for the Northeast Region of Morgan Stanley Capital Group Inc., et al.

Filed Date: 6/30/20.

Accession Number: 20200630-5486.

Comments Due: 5 p.m. ET 8/29/20.

Docket Numbers: ER10-3115-007.

Applicants: Waterside Power, LLC.

Description: Updated Market Power Analysis for Waterside Power, LLC.

Filed Date: 6/30/20.

Accession Number: 20200630-5475.

Comments Due: 5 p.m. ET 8/29/20.

Docket Numbers: ER12-1923-006; ER10-2334-007; ER11-3406-007; ER11-3407-007; ER12-1865-008; ER12-1923-006; ER12-1925-006.

Applicants: Big Savage, LLC, Big Sky Wind, LLC, Highland North LLC, Howard Wind LLC, Mustang Hills, LLC, Patton Wind Farm, LLC.

Description: Triennial Market Power Update for the Northeast Region of Big Savage, LLC, et al.

Filed Date: 6/30/20.

Accession Number: 20200630-5474.

Comments Due: 5 p.m. ET 8/29/20.

Docket Numbers: ER13-342-015.

Applicants: CPV Shore, LLC.

Description: Market Power Update of CPV Shore, LLC.

Filed Date: 6/30/20.

Accession Number: 20200630-5478.

Comments Due: 5 p.m. ET 8/29/20.

Docket Numbers: ER13-343-011.

Applicants: CPV Maryland, LLC.

Description: Market Power Update of CPV Maryland, LLC.

Filed Date: 6/30/20.

Accession Number: 20200630-5476.

Comments Due: 5 p.m. ET 8/29/20.

Docket Numbers: ER13-1485-011; ER10-3230-011; ER10-3237-011; ER10-3239-011; ER10-3240-011; ER10-3253-011; ER14-1777-010; ER15-2722-007; ER18-1310-002; ER19-461-002.

Applicants: Wheelabrator Baltimore, L.P., Wheelabrator Bridgeport, L.P., Wheelabrator Concord Company, L.P., Wheelabrator Falls Inc., Wheelabrator Frackville Energy Company Inc., Wheelabrator Millbury Inc., Wheelabrator North Andover Inc., Wheelabrator Portsmouth Inc., Wheelabrator Saugus Inc., Wheelabrator Westchester, L.P.

Description: Updated Market Power Analysis for the Northeast Region of Wheelabrator Baltimore, L.P., et al.

Filed Date: 6/30/20.

Accession Number: 20200630-5472.

Comments Due: 5 p.m. ET 8/29/20.

Docket Numbers: ER16-700-005.

Applicants: CPV Towantic, LLC.

Description: Market Power Update of CPV Towantic, LLC.

Filed Date: 6/30/20.

Accession Number: 20200630-5480.

Comments Due: 5 p.m. ET 8/29/20.

Docket Numbers: ER16-701-004.

Applicants: CPV Valley, LLC.

Description: Market Power Update of CPV Valley, LLC.

Filed Date: 6/30/20.

Accession Number: 20200630-5482.

Comments Due: 5 p.m. ET 8/29/20.

Docket Numbers: ER17-1531-004.

Applicants: CPV Fairview, LLC.

Description: Market Power Update of CPV Fairview, LLC.

Filed Date: 6/30/20.

Accession Number: 20200630-5484

Comments Due: 5 p.m. ET 8/29/20.

Docket Numbers: ER19-2462-001; ER18-2264-004; ER18-552-003; ER19-289-004.

Applicants: Macquarie Energy LLC, Macquarie Energy Trading LLC, Clean Energy Future—Lordstown, LLC, Cleco Cajun LLC.

Description: Updated Market Power Analysis for the Northeast Region of Macquarie Energy LLC, et al.

Filed Date: 6/30/20.

Accession Number: 20200630-5494.

Comments Due: 5 p.m. ET 8/29/20.

Docket Numbers: ER20-1486-001.

Applicants: Southwest Power Pool, Inc.

Description: Tariff Amendment: 3621SO Empire District Electric GIA—Deficiency Response to be effective 3/19/2020.

Filed Date: 7/1/20.

Accession Number: 20200701-5237.

Comments Due: 5 p.m. ET 7/22/20.

Docket Numbers: ER20-1656-002.

Applicants: MidAmerican Energy Company.

Description: Tariff Amendment: Joint Pricing Zone Revenue Allocation Agreement-3rd Revised (Amended) to be effective 6/1/2020.

Filed Date: 6/30/20.

Accession Number: 20200630-5186.

Comments Due: 5 p.m. ET 7/10/20.

Docket Numbers: ER20-1965-001.

Applicants: Versant Power.

Description: Tariff Amendment: MBR Notice of Succession to Versant Power (Amended) to be effective 6/3/2020.

Filed Date: 7/1/20.

Accession Number: 20200701-5071.

Comments Due: 5 p.m. ET 7/22/20.

Docket Numbers: ER20-2190-001.

Applicants: Southwest Power Pool, Inc.

Description: Tariff Amendment: 3675 Doniphan Electric Coop NITSA and Cancellation of 1886 Westar NITSA to be effective 6/1/2020.

Filed Date: 7/1/20.

Accession Number: 20200701-5292.

Comments Due: 5 p.m. ET 7/22/20.

Docket Numbers: ER20-2280-000.

Applicants: Evergy Metro, Inc.

Description: § 205(d) Rate Filing: Electric Interconnection & Delivery Service Agreements & a Notice of Termination to be effective 9/1/2020.

Filed Date: 7/1/20.

Accession Number: 20200701-5004.

Comments Due: 5 p.m. ET 7/22/20.

Docket Numbers: ER20-2281-000.

Applicants: Evergy Kansas Central, Inc.

Description: § 205(d) Rate Filing: Notice of Termination to be effective 8/17/2020.

Filed Date: 7/1/20.

Accession Number: 20200701-5007.

Comments Due: 5 p.m. ET 7/22/20.

Docket Numbers: ER20-2282-000.

Applicants: Midcontinent Independent System Operator, Inc.

Description: Compliance filing: 2020-07-01_SA 2951 Northern States Power-MDU 2nd Rev GIA (J316) to be effective 7/1/2020.

Filed Date: 7/1/20.

Accession Number: 20200701-5081.

Comments Due: 5 p.m. ET 7/22/20.

Docket Numbers: ER20-2283-000.

Applicants: Midcontinent Independent System Operator, Inc.

Description: Compliance filing: 2020-07-01_SA 3517 NSP-MDU FSA (J316) to be effective 7/1/2020.

Filed Date: 7/1/20.

Accession Number: 20200701-5087.

Comments Due: 5 p.m. ET 7/22/20.

Docket Numbers: ER20-2284-000.

Applicants: Southwest Power Pool, Inc.

Description: § 205(d) Rate Filing: 2900R13 KMEA NITSA NOA; 1884R9, 1888R9 and 1890R9 Westar NITSA NOA Cancellation to be effective 6/1/2020.

Filed Date: 7/1/20.

Accession Number: 20200701-5208.

Comments Due: 5 p.m. ET 7/22/20.

Docket Numbers: ER20-2285-000.

Applicants: Homer City Generation, L.P.

Description: § 205(d) Rate Filing: Revised Market-Based Rate Tariff Filing to be effective 8/31/2020.

Filed Date: 7/1/20.

Accession Number: 20200701-5226.

Comments Due: 5 p.m. ET 7/22/20.

Docket Numbers: ER20-2286-000.

Applicants: Southwest Power Pool, Inc.

Description: § 205(d) Rate Filing: 2236R12 Golden Spread Electric Cooperative, Inc. NITSA NOA to be effective 6/1/2020.

Filed Date: 7/1/20.

Accession Number: 20200701-5238.

Comments Due: 5 p.m. ET 7/22/20.

Docket Numbers: ER20-2287-000.

Applicants: Southwest Power Pool, Inc.

Description: § 205(d) Rate Filing: 3215R7 People's Electric Cooperative NITSA NOA to be effective 6/1/2020.

Filed Date: 7/1/20.

Accession Number: 20200701-5247.

Comments Due: 5 p.m. ET 7/22/20.

Docket Numbers: ER20-2288-000.

Applicants: Tatanka Ridge Wind, LLC.

Description: Baseline eTariff Filing: Application for Market-Based Rate Authorization, Request for Related Waivers to be effective 8/31/2020.

Filed Date: 7/1/20.

Accession Number: 20200701-5263

Comments Due: 5 p.m. ET 7/22/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2020.
Nathaniel J. Davis, Sr.,
Deputy Secretary.

[FR Doc. 2020-14687 Filed 7-7-20; 8:45 am]

BILLING CODE 6717-01-P